DEPARTMENT OF ENERGY

Federal Energy Regulatory Commission

[Docket No. RP00-490-002]

Transwestern Pipeline Company; Notice of Compliance Filing

December 6, 2002.

Take notice that on November 14, 2002, Transwestern Pipeline Company (Transwestern) tendered for filing as part of its FERC Gas Tariff, Fifth Revised Sheet No. 92D of Second Revised Volume No. 1, to become effective January 1, 2003.

Transwestern states that Fifth Revised Sheet No. 92D, while listed and described in its November 12, 2002 filing in Docket No. RP00-490-002, was inadvertently omitted from the tariff sheets and diskette included in the November 12 filing. Transwestern states that the instant filing is to correct this omission by filing Fifth Revised Sheet No. 92D herein.

Any person desiring to protest said filing should file a protest with the Federal Energy Regulatory Commission, 888 First Street, NE., Washington, DC 20426, in accordance with Section 385.211 of the Commission's Rules and Regulations. All such protests must be filed on or before December 12, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 02-31321 Filed 12-11-02; 8:45 am]

BILLING CODE 6717-01-P